DEPARTMENT OF HOMELAND SECURITY

Transportation Security Administration

[Docket No. TSA-2005-21866]

Intent To Request Renewal From OMB of One Current Public Collection of Information: Enhanced Security Procedures at Ronald Reagan Washington National Airport

AGENCY: Transportation Security Administration (TSA), DHS.

ACTION: 60-Day notice.

SUMMARY: The Transportation Security Administration (TSA) invites public comment on one currently approved Information Collection Request (ICR), Office of Management and Budget (OMB) control number 1652-0035, abstracted below, that we will submit to the OMB for renewal in compliance with the Paperwork Reduction Act (PRA). The ICR describes the nature of the information collection and its expected burden. The collection requires General Aviation (GA) aircraft operators who wish to fly into and out of Ronald Reagan Washington National Airport (DCA) to designate a security coordinator and adopt a DCA Access Standard Security Program (DASSP).

DATES: Send your comments by March 8, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control No. 1652-0035; Enhanced Security Procedures at Ronald Reagan Washington National Airport (DCA). TSA is seeking approval to renew this collection of information.

TSA requires GA aircraft operators who wish to fly into and out of DCA to designate a security coordinator and adopt the DASSP. Once aircraft operators have adopted the DASSP, the operators must request a tentative slot reservation from the Federal Aviation Administration (FAA) and request authorization from TSA to fly into or out of DCA. This information is collected under OMB control number 1652-0033 TSA Airspace Waiver Program. If TSA approves the flight, TSA will transmit that information to FAA.

The DASSP application collects basic information about the applicant, the aircraft operator, and the security coordinator that the operator wishes to designate, as well as the identifier of the airport used as a base of operation and whether the operator presently complies with a TSA Standard Security Program.

TSA also requires individuals designated as security coordinators and flight crewmembers assigned to duty on a GA aircraft into and out of DCA to submit fingerprints for a Criminal History Records Check (CHRC). In addition, GA aircraft operator must also maintain CHRC records of all employees and authorized representative for which a CHRC has been completed. These records must be made available to TSA upon request.

TSA estimates a total of 4,887 respondents annually. The total number of annual burden hours is estimated to be 5,547 hours per year.

Dated: January 4, 2016.
Christina A. Walsh,
TSA Paperwork Reduction Act Officer, Office of Information Technology.

[FR Doc. 2016-00175 Filed 1-7-16; 8:45 am]

BILLING CODE 9110-05-P